DEPARTMENT OF ENERGY

Federal Energy Regulatory Commission

[Docket No. EL14-29-000]

New York Association of Public Power (Complainant) v. Niagara Mohawk Power Corporation, The New York Independent System, Operator, Inc. (Respondents); Notice of Complaint

Take notice that on February 6, 2014, pursuant to section 206 of the Federal Energy Regulatory Commission's (Commission) Rules of Practice and Procedure, 18 CFR 385.206 and section and 206 of the Federal Power Act, 16 U.S.C. 824(e), the New York Association of Public Power (NYAPP) filed a formal complaint against Niagara Mohawk Power Corporation (NMPC) and The New York Independent System Operator, Inc. (NYISO) alleging that, NMPC's use of an 11.5 percent return on common equity (ROE) in calculating rates for transmission services under the NYISO's Open Access Transmission Tariff (OATT) rate is unjust and unreasonable. NYAPP requests the Commission issue an order to reduce the 11.5 percent ROE used in calculating rates for transmission service under the NYISO's OATT to a just and reasonable level of 9.46 percent, inclusive of a 50 basis point adder for participation in the NYISO, with a corresponding overall weighted cost of capital of 6.60 percent.

The NYAPP certifies that copies of the complaint were served on the contacts of NMPC and the NYISO as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on February 26, 2014.

Dated: February 10, 2014.
Kimberly D. Bose,
Secretary.

[FR Doc. 2014-03435 Filed 2-14-14; 8:45 am]

BILLING CODE 6717-01-P